DEPARTMENT OF THE INTERIOR

National Indian Gaming Commission

25 CFR Part 559

RIN 3141-AA73

Submission of Gaming Ordinance or Resolution; Correction

AGENCY: National Indian Gaming Commission, Department of the Interior.

ACTION: Proposed rule; correction.

SUMMARY: This document corrects the preamble to a proposed rule published in the Federal Register of December 9, 2021, regarding the Submission of Gaming Ordinances or Resolutions. The document contained incorrect dates for submitting comments. This correction clarifies that comments are due February 7, 2022.

FOR FURTHER INFORMATION CONTACT: Michael Hoenig, 202-632-7003.

SUPPLEMENTARY INFORMATION:

Correction

In the Federal Register of December 1, 2021, in proposed rule FR Doc. 2021-25843, on page 70067, in the third column, change the DATES caption to read:

DATES: Written comments on this proposed rule must be received on or before February 7, 2022.

Dated: January 6, 2022.
Michael Hoenig,
General Counsel.

[FR Doc. 2022-00636 Filed 1-13-22; 8:45 am]

BILLING CODE 7565-01-P